DEPARTMENT OF LABOR

Agency Information Collection Activities; Submission for OMB Review; Comment Request, Homeless Veterans Reintegration Program (HVRP) Impact Evaluation, New Collection

AGENCY: Office of the Assistant Secretary for Policy, Chief Evaluation Office, Department of Labor.

ACTION: Notice of Information Collection; request for comment.

SUMMARY: The Department of Labor (DOL), as part of its continuing effort to reduce paperwork and respondent burden, conducts a preclearance consultation program to provide the general public and federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents is properly assessed.

Currently, DOL is soliciting comments concerning the collection of survey data about the HVRP Impact Evaluation. A copy of the proposed Information Collection Request (ICR) can be obtained by contacting the office listed in the addressee section of this notice.

DATES: Written comments must be submitted to the office listed in the addressee's section below on or before October 12, 2018.

ADDRESSES: You may submit comments by either one of the following methods: Email: ChiefEvaluationOffice@dol.gov; Mail or Courier: Christina Yancey, Chief Evaluation Office, OASP, U.S. Department of Labor, Room S-2312, 200 Constitution Avenue NW, Washington, DC 20210. Instructions: Please submit one copy of your comments by only one method. All submissions received must include the agency name and OMB Control Number identified above for this information collection. Comments, including any personal information provided, become a matter of public record. They will also be summarized and/or included in the request for OMB approval of the information collection request.

FOR FURTHER INFORMATION CONTACT: Christina Yancey by email at ChiefEvaluationOffice@dol.gov.

SUPPLEMENTARY INFORMATION:

I. Background: As the only federal program wholly focused on employment services for veterans experiencing homelessness, HVRP sits at the nexus of these three critical policy arenas: veterans, employment, and housing. Since 1987, HVRP has assisted veterans experiencing homelessness through competitive grants to state, local, and tribal governments; local Workforce Development Boards; private for-project and non-profit organizations; and community organizations. In the most recent Program Year (PY) 2018, DOL announced awards to 163 grantees to support an estimated 18,000 veterans. These are one-year grants; a new set of grantees will receive PY 2019 awards.

The HVRP Impact Evaluation is examining the effectiveness of the HVRP program, building evidence of HVRP's effects on participants' employment and earning-related outcomes. In addition, the evaluation will provide a better understanding of program models and variations, partnerships, and populations served. Goals of the specific data collection plan included in this Notice is to help DOL make informed decisions about effective ways to improve the service systems seeking to support veterans experiencing homelessness. The research questions to be answered by the planned data collection pertain to how HVRPs are implemented; what are the different approaches to service provision; how systems and partnerships are developed and maintained; and what the service landscape is in the absence of HVRP.

This Federal Register Notice provides the opportunity to comment on four proposed data collection instruments that will be used in the evaluation's implementation study:

* Grantee survey. The grantee survey will be administered to all HVRP grantees to collect the following information: (1) Key referral sources for participants; (2) key recruitment sources and challenges; (3) number and type of services; (4) list of services offered on-site and through referrals; (5) key partners and referral sources; (6) type and mode of communication; and (7) types of coordination and collaboration. The survey will be administered via web. It is expected to take participants an average of 60 minutes to complete the survey and yield a 100% response rate.

* Key informant interview guide. The study team will visit eight grantees for two to three days to interview (1) program directors and managers; (2) job developers; (3) employment specialists; (4) case managers; and (5) outreach workers with interviews averaging 60 minutes. In addition to the grantee staff, the team will interview managers of partner entities from employment, homelessness/housing, and veteran's agencies and service providers. To ensure consistent data collection, the team will use a field discussion guide designed to gather information relevant to all of the implement research questions. The guide will focus on understanding (1) target populations and enrollment process; (2) key components of the HVRP program model; (3) HVRP partners; and (4) implementation challenges and facilitators. The guide will also be used for telephone interviews with similar partner types in eight comparison areas that are selected for the impact study.

* Partner assessment tool. A brief assessment will be administered to collect data on the strength of the HVRP partnership network. The assessment tool will be administered on paper, taking less than ten minutes to completed, and will ask key informants to assess and rate the strength of their community partners in providing employment services, assistance locating housing, critical health support services, and the use of employer relations for job placement. An open-ended question will allow respondents the opportunity to provide more information to contextualize their rating of each partner.

* In-depth interview guide. The study team will conduct in-depth interviews with current and former HVRP participants. HVRP program directors will be asked to identify veterans who are currently enrolled in HVRP or those who recently exited the program. The instrument will collect data detailing information on (1) the participant's pathways to homelessness; (2) barriers they face to looking for and staying in work; (3) experiences in HVRP and other employment and supportive services; and (4) their post-program outcomes. In addition, participants will be asked which parts of the HVPR program was most important to their success.

II. Desired Focus of Comments: Currently, DOL is soliciting comments concerning the above data collection for the HVRP Evaluation. DOL is particularly interested in comments that do the following:

• Evaluate whether the proposed collection of information is necessary for the proper performance of the functions of the agency, including whether the information will have practical utility.

• Evaluate the accuracy of the agency's estimate of the burden of the proposed collection of information, including the validity of the methodology and assumptions used.

• Enhance the quality, utility, and clarity of the information to be collected.

• Minimize the burden of the collection of information on those who are to respond, including through the use of appropriate automated, electronic, mechanical, or other technological collection techniques or other forms of information technology—for example, permitting electronic submission of responses.

III. Current Actions: DOL is requesting clearance for the grantee survey, key informant interview guide, partner assessment tool, and in-depth participant interview guide.

Type of Review: New information collection request.

OMC Control Number: 1290-0NEW.

Affected Public: Veterans experiencing homelessness.

Estimated Burden Hours:

Implementation Study
Type of instrument | Total number respondents | Annual number of respondents | Annual number of responses per respondent | Average burden hour per response (hours) | Annual estimated burden hours
Grantee Survey | 163 | 54 | 1 | 1 | 54
Key Informant Interview Guide | 168 | 56 | 1 | 1 | 56
Partner Assessment Tool | 80 | 27 | 1 | .2 | 5
In-Depth Interview Guide | ᵃ 32 | 11 | 1 | 1.5 | 16
Total | 443 | 148 |  |  | 131
ᵃ In-depth HVRP participant interviews will be conducted approximately 8 participants at four sites.

Comments submitted in response to this request will be summarized and/or included in the request for Office of Management and Budget approval of the information collection request; they will also become a matter of public record.

Dated: August 3, 2018.
Molly Irwin,
Chief Evaluation Officer, U.S. Department of Labor.

[FR Doc. 2018-17244 Filed 8-10-18; 8:45 am]

BILLING CODE 4510-HX-P